NATIONAL AERONAUTICS AND SPACE ADMINISTRATION

[Notice: (12-102)]

Notice of Establishment of a NASA Federal Advisory Committee; Applied Sciences Advisory Committee

AGENCY: National Aeronautics and Space Administration (NASA).

ACTION: In accordance with the Federal Advisory Committee Act (FACA) (Pub. L. 92-463, as amended), and pursuant to Section 314(a) of the NASA Authorization Act of 2005 (Pub. L. 109-155), the NASA Administrator has determined that the establishment of the Applied Sciences Advisory Committee as a Federal advisory committee under FACA is necessary and in the public interest in connection with duties imposed upon NASA by law. This determination follows consultation with the Committee Management Secretariat, U.S. General Services Administration (GSA), in accordance with Section 102-3.60(a) of the GSA Final Rule on Federal Advisory Committee Management (41 CFR parts 101-6 and 102-3).

FOR FURTHER INFORMATION CONTACT: Mr. Peter Meister, Strategic Integration and Management Division, Science Mission Directorate, NASA Headquarters, 300 E Street SW., Washington, DC 20546, (202) 358-1557.

SUPPLEMENTARY INFORMATION: Background: Section 313 of the NASA Authorization Act of 2005 directs that NASA establish a program of grants for competitively-awarded pilot projects to explore the integrated use of sources of remote sensing and other geospatial information to address State, local, regional and tribal agency needs. Section 314(a) of this Act requires that NASA establish an advisory committee to monitor the program established under Section 313. Pursuant to Section 314(a), in late 2008, NASA established the Applied Sciences Analysis Group (ASAG) as a task group under the auspices of the Earth Science Subcommittee of the NASA Advisory Council. It has been responsible for providing strategic and programmatic guidance for planning and prioritizing the Earth Science Division's Applied Sciences Program activities and has served as a community-based interdisciplinary forum for analysis. The AGAG held its first meeting in January 2009, with one or two meetings per year taking place since then. The ASAG has been governed by a Terms of Reference. During 2012, NASA has determined that the establishment of a separate independent Federal advisory committee known as the Applied Sciences Advisory Committee (ASAC) is more in line with the letter and spirit of the statutory requirement.

Nature and Purpose: The ASAC will be governed by a formal charter, consistent with FACA, the GSA Final Rule noted above, and related regulations, policies and guidelines. It shall draw upon the expertise of its members and other sources to provide advice and make recommendations to the Director, Earth Science Division, Science Mission Directorate, NASA Headquarters, on Applied Sciences programs, policies, plans and priorities. The ASAC's recommendations and analysis can be used to inform decisions on the programmatic scope and priorities, as well as the implementation of Applied Sciences programs. In addition, the ASAC will provide a regular forum for broad discussion of Earth science applications and the role of Applied Sciences within and outside of NASA. The ASAC will function solely as an advisory body and comply fully with the provisions of FACA.

Membership: The ASAC will consist of approximately 9-12 members who will serve as Special Government Employees for a two-year term, renewable at the discretion of the Director, Earth Science Division, Science Mission Directorate, NASA Headquarters. The ASAC Chair will also serve as a member of the Earth Science Subcommittee of the NASA Advisory Council.

Meetings: The ASAC shall meet approximately one to two times per year or as required by the Director, Earth Science Division, Science Mission Directorate, NASA Headquarters.

Duration: Since the ASAC is a nondiscretionary Federal advisory committee required by Federal statute; it is envisioned to be a continuing entity.

Designated Federal Officer: The NASA Designated Federal Officer (DFO) for ASAC is: Mr. Peter Meister, Strategic Integration and Management Division, Science Mission Directorate, NASA Headquarters, 300 E Street SW., Washington, DC 20546, (202) 358-1557.

Patricia D. Rausch,
Advisory Committee Management Officer, National Aeronautics and Space Administration.

[FR Doc. 2012-28537 Filed 11-23-12; 8:45 am]

BILLING CODE 7510-13-P